DEPARTMENT OF LABOR

Employment and Training Administration

[TA-W-65,263]

Kimball Office, Borden, IN; Notice of Termination of Investigation

In accordance with Section 221 of the Trade Act of 1974, as amended, an investigation was initiated on February 17, 2009 in response to a worker petition filed on behalf of workers of Kimball Office, Borden, Indiana. The investigation revealed that this petition was mistakenly instituted twice. The petitioners withdrew their first petition on March 14, 2009 (TA-W-65,492). Therefore, this petition has been deemed invalid and the investigation has been terminated.

Signed in Washington, DC, this 30th day of March 2009.
Richard Church,
Certifying Officer, Division of Trade Adjustment Assistance.

[FR Doc. E9-10216 Filed 5-4-09; 8:45 am]

BILLING CODE 4510-FN-P